DEPARTMENT OF COMMERCE

National Oceanic and Atmospheric Administration

Extension of Public Scoping Period for the Proposed Designation of the Northwestern Hawaiian Islands National Marine Sanctuary

AGENCY: National Marine Sanctuary Program (NMSP), National Ocean Service (NOS), National Oceanic and Atmospheric Administration (NOAA), Department of Commerce (DOC).

ACTION: Notice.

SUMMARY: On December 4, 2000, Executive Order 13178 established the Northwestern Hawaiian Islands Coral Reef Ecosystem Reserve, pursuant to the National Marine Sanctuaries Amendments Act of 2000. The Reserve extends approximately 1200 nautical miles long and 100 nautical miles wide. Pursuant to this Act and the Executive Order, NOAA initiated the process to designate the Reserve as a national marine sanctuary by issuing a notice of intent on January 19, 2001 (66 FR 5509). The public scoping period was announced on March 18, 2002 (67 FR 11996), with an closing date of May 3, 2002. In order to provide additional time for the public to provide written comments and to better coincide with the comment period on the Draft Reserve Operations Plan that was released on March 18, 2002 (67 FR 11997), the close of the public scoping meeting is extended to May 17, 2002.

DATES AND ADDRESSES: The public scoping process began on March 18, 2002, and ends on Friday, May 17, 2002. Written comments may be sent to NWHI Coral Reef Ecosystem Reserve, 6700 Kalanianaòle Highway, #215, Honolulu, Hawaii 96825; faxed to (808) 397-2662; or emailed to nwhi@noaa.gov. Comments will be available for public review at the office address above. Summaries of public comments from initial scoping meetings will be available at hawaiireef.noaa.gov. Scoping meetings will be held in April.

FOR FURTHER INFORMATION CONTACT: Àulani Wilhelm, (808) 397-2657, nwhi@noaa.gov.

Authority: 16 U.S.C. Section 1431 et seq., Pub. L. 106-513,

(Federal Domestic Assistance Catalog Number 11.429 Marine Sanctuary Program)

Dated: April 4, 2002.
Margaret A. Davidson,
Acting Assistant Administrator for Ocean Services and Coastal Zone Management.

[FR Doc. 02-8654 Filed 4-10-02; 8:45 am]

BILLING CODE 3510-08-M